DEPARTMENT OF HOMELAND SECURITY

Federal Emergency Management Agency

[Docket ID FEMA-2015-0001; Internal Agency Docket No. FEMA-B-1520]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 29, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1520, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies will be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: June 16, 2015.
Roy E. Wright,
Deputy Associate Administrator for Insurance and Mitigation, Department of Homeland Security, Federal Emergency Management Agency.

I. Non-watershed-based studies:

Community | Local map repository address
Montgomery County, Kansas, and Incorporated Areas
Maps Available for Inspection Online at: http://www.fema.gov/preliminaryfloodhazarddata
Project: 10-07-0013S Preliminary Date: October 17, 2014
City of Caney | City Hall, 100 West 4th Avenue, Caney, KS 67333.
City of Cherryvale | City Hall, 123 West Main Street, Cherryvale, KS 67335.
City of Coffeyville | Engineering Department, 11 East 2nd Street, Coffeyville, KS 67337.
City of Dearing | City Hall, 306 South Independence Avenue, Dearing, KS 67340.
City of Elk City | City Hall, 114 North Montgomery Avenue, Elk City, KS 67344.
City of Havana | Montgomery County Judicial Center, 300 East Main Street, Lower Level, Independence, KS 67301.
City of Independence | City Hall, 120 North 6th Street, Independence, KS 67301.
City of Liberty | Montgomery County Judicial Center, 300 East Main Street, Lower Level, Independence, KS 67301.
City of Tyro | Tyro City Clerk's Office, 1655 County Road 2700, Caney, KS 67333.
Unincorporated Areas of Montgomery County | Montgomery County Judicial Center, 300 East Main Street, Lower Level, Independence, KS 67301.
Camden County, NJ (All Jurisdictions)
Maps Available for Inspection Online at: http://www.fema.gov/preliminaryfloodhazarddata
Project: 13-02-0051S Preliminary Date: Septmeber 19, 2014
Borough of Audubon | Borough Hall, 606 West Nicholson Road, Audubon, NJ 08106.
Borough of Audubon Park | Community Hall, 20 Road C, Audubon Park, NJ 08106.
Borough of Bellmawr | Municipal Building, 21 East Browning Road, Bellmawr, NJ 08031.
Borough of Brooklawn | Borough Hall, 301 Christiana Street, Brooklawn, NJ 08030.
Borough of Collingswood | Borough Hall, 678 Haddon Avenue, Collingswood, NJ 08108.
Borough of Mount Ephraim | Tax Office, 121 South Black Horse Pike, Mount Ephraim, NJ 08059.
Borough of Oaklyn | Borough Hall, 500 White Horse Pike, Oaklyn, NJ 08107.
Borough of Runnemede | Borough Hall, 24 North Black Horse Pike, Runnemede, NJ 08078.
Borough of Woodlynne | Municipal Building, 200 Cooper Avenue, Woodlynne, NJ 08107.
City of Camden | Planning Department, 520 Market Street, Suite 224, Camden, NJ 08101.
City of Gloucester | Municipal Building, 512 Monmouth Street, Gloucester City, NJ 08030.
Township of Gloucester | Municipal Building, 1261 Chews Landing Road, Laurel Springs, NJ 08021.
Township of Haddon | Annex Building, 10 Reeve Avenue, Haddon Township, NJ 08108.
Township of Pennsauken | Municipal Building, 5605 North Crescent Boulevard, Pennsauken, NJ 08110.
Gloucester County, New Jersey (All Jurisdictions)
Maps Available for Inspection Online at: http://www.fema.gov/preliminaryfloodhazarddata
Project: 13-02-0052S Preliminary Date: September 19, 2014
Borough of National Park | Borough Hall, 7 South Grove Avenue, National Park, NJ 08063.
Borough of Paulsboro | Administration Building, 1211 North Delaware Street, Paulsboro, NJ 08066.
Borough of Swedesboro | Borough Hall, 1500 Kings Highway, Swedesboro, NJ 08085.
Borough of Wenonah | 1 South West Avenue, Wenonah, NJ 08090.
Borough of Westville | 165 Broadway, Westville, NJ 08093.
City of Woodbury | City Hall, 33 Delaware Street, Woodbury, NJ 08096.
Township of Deptford | Municipal Building, 1011 Cooper Street, Deptford, NJ 08096.
Township of East Greenwich | East Greenwich Township Municipal Building, 159 Democrat Road, Mickleton, NJ 08056.
Township of Greenwich | Greenwich Township Construction and Zoning Office, 403 West Broad Street, Gibbstown, NJ 08027.
Township of Logan | 125 Main Street, Bridgeport, NJ 08014.
Township of Mantua | Municipal Building, 401 Main Street, Mantua, NJ 08051.
Township of West Deptford | 400 Crown Point Road, West Deptford, NJ 08086.
Township of Woolwich | 121 Woodstown Road, Swedesboro, NJ 08085.

[FR Doc. 2015-16227 Filed 6-30-15; 8:45 am]

BILLING CODE 9110-12-P